DEPARTMENT OF THE TREASURY

Internal Revenue Service

Credit for Renewable Electricity Production and Publication of Inflation Adjustment Factor and Reference Price for Calendar Year 2024; Correction

AGENCY: Internal Revenue Service (IRS), Treasury.

ACTION: Notice; correction.

SUMMARY: This document contains corrections to a publication of the inflation adjustment factor and reference price for calendar year 2024 as required by section 45(e)(2)(A) of the Internal Revenue Code that was published in the Federal Register on July 11, 2024. The 2024 inflation adjustment factor and reference price are used in determining the availability of the credit for renewable electricity production.

FOR FURTHER INFORMATION CONTACT: Charles Hyde, (202) 317-6853 (not a toll-free number).

SUPPLEMENTARY INFORMATION:

Background

The publication of the inflation adjustment factor and reference price for calendar year 2024 as required by section 45(e)(2)(A) of the Internal Revenue Code (26 U.S.C. 45(e)(2)(A)) that is the subject of this correction is under section 45 of the Internal Revenue Code.

Correction of Publication

Accordingly, FR Doc. 2024-15226, the publication of the inflation adjustment factor and reference price for calendar year 2024 as required by section 45(e)(2)(A) of the Internal Revenue Code (26 U.S.C. 45(e)(2)(A)), appearing on page 56924 in the Federal Register on Thursday, July 11, 2024, is corrected as follows:

1. On Page 56925, in the first column, in the second line of the first partial paragraph, the language “2023” is corrected to read “2024”.

2. On Page 56925, in the first column, the last sentence of the first full paragraph is removed.

Oluwafunmilayo A. Taylor,
Section Chief, Publications and Regulations Section, Associate Chief Counsel (Procedure and Administration).

[FR Doc. 2024-21015 Filed 9-16-24; 8:45 am]

BILLING CODE 4830-01-P